DEPARTMENT OF LABOR

Employment and Training Administration

[TA-W-52,576]

Smith Meter, Inc., (Also Known as FMC Measurement Solutions), a Subsidiary of FMC Technologies, Inc., Erie, PA; Notice of Negative Determination Regarding Application for Reconsideration

By application of October 1, 2003, the petitioner requested administrative reconsideration of the Department's negative determination regarding eligibility for workers and former workers of the subject firm to apply for Trade Adjustment Assistance (TAA). The denial notice was signed on September 10, 2003 and published in the Federal Register on October 10, 2003 (68 FR 58719).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Smith Meter, Inc. (a.k.a. FMC Measurement Solutions), a subsidiary of FMC Technologies, Inc., Erie, Pennsylvania, engaged in the production of liquid measurement equipment, was denied because the “contributed importantly” group eligibility requirement of Section 222(3) of the Trade Act of 1974, as amended, was not met. The “contributed importantly” test is generally demonstrated through a survey of the workers' firm's customers. The Department conducted a survey of the subject firm's major customers regarding their purchases of liquid measurement equipment. The survey revealed that none of the customers increased their import purchases of liquid measurement equipment, while reducing their purchases from the subject firm during the relevant period. The subject firm imported negligible percentage of liquid measurement equipment during the relevant period.

The petitioner attached two documents in support of his allegations, that Smith Meter, Inc. (a.k.a. FMC Measurement Solutions) does import liquid measurement equipment. First document is a letter to General Manager of FMC Measurement Solutions announcing the winner of 2002 Eagle Award. The announcement remarks Liquid Products, Measurement Solutions' “sound sourcing strategies”, and refers to the sourcing of bearings and machined rotors in China.

Further contact with the company official revealed that the subject firm has been establishing contacts with foreign firms and is currently looking into buying some products in China. The subject firm does import a small fraction of products, which in no way affects domestic production of liquid measurement equipment. Imports of bearings and machined rotors were reflected in the data provided by the subject firm in the Confidential Data Request during the initial investigation. The Department of Labor received and analyzed financial information provided by the subject firm. A review of the initial investigation revealed that, in context to total plant production, the amount of imports by the subject firm is considered to be negligible during the period under investigation.

The second document provided by the petitioner is the announcement of the recipient of FMC Eagle Award for 2003. The letter does not contain any information, which will support petitioner's allegation and is irrelevant in this investigation.

As already indicated, a negligible amount of product has been imported by the subject facility, albeit not significant enough to contribute to layoffs.

Conclusion

After review of the application and investigative findings, I conclude that there has been no error or misinterpretation of the law or of the facts which would justify reconsideration of the Department of Labor's prior decisions. Accordingly, the application is denied.

Signed at Washington, DC, this 9th day of December, 2003.
Elliott S. Kushner,
Certifying Officer, Division of Trade Adjustment Assistance.

[FR Doc. 03-32287 Filed 12-31-03; 8:45 am]

BILLING CODE 4510-30-P